DEPARTMENT OF HOMELAND SECURITY

Federal Emergency Management Agency

44 CFR Part 65

[Docket ID FEMA-2011-0002; Internal Agency Docket No. FEMA-B-1234]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive, officer of community | Effective date of modification | Community, No.
Arizona: Maricopa | City of Chandler (11-09-2364P) | September 1, 2011; September 8, 2011; The Arizona Republic | The Honorable Jay Tibshraeny, Mayor, City of Chandler, 175 South Arizona Avenue, 5th Floor, Chandler, AZ 85225 | September 18, 2011 | 040040
Kansas:
Johnson | City of Roeland Park (11-07-1190P) | October 4, 2011; October 11, 2011; The Legal Record | The Honorable Adrienne Foster, Mayor, City of Roeland Park, City Hall, 4600 West 51st Street, Roeland Park, KS 66205 | February 8, 2012 | 200176
Johnson | City of Fairway (11-07-1190P) | October 4, 2011; October 11, 2011; The Legal Record | The Honorable Jerry Wiley, Mayor, City of Fairway, 4210 Shawnee Mission Parkway, Suite 100, Fairway, KS 66205 | February 8, 2012 | 205185
Johnson | City of Mission (11-07-1190P) | October 4, 2011; October 11, 2011; The Legal Record | The Honorable Laura McConwell, Mayor, City of Mission, City Hall, 6090 Woodson Road, Mission, KS 66202 | February 8, 2012 | 200170
Idaho: Bonneville | Unincorporated areas of Bonneville County (11-10-1238P) | August 30, 2011; September 6, 2011; The Post Register | Mr. Roger Christensen, Bonneville County Commissioner, 605 North Capital Avenue, Idaho Falls, ID 83402 | August 17, 2011 | 160027
Indiana:
Marion | City of Beech Grove (11-05-6197P) | October 6, 2011; October 13, 2011; The Indianapolis Star | The Honorable Terry Dilk, Mayor, City of Beech Grove, 806 Main Street, Beech Grove, IN 46107 | February 10, 2012 | 180158
Lake | City of Hammond (11-05-0942P) | September 9, 2011; September 16, 2011; The Northwest Indiana Times | The Honorable Thomas M. McDermott, Jr., Mayor, City of Hammond, 5925 Calumet Avenue, Hammond, IN 46320 | August 26, 2011 | 180134
Lake | Town of Highland (11-05-0942P) | September 9, 2011; September 16, 2011; The Northwest Indiana Times | Mr. Brian Novak, President, Town of Highland, 3333 Ridge Road, Highland, IN 46322 | August 26, 2011 | 185176
Lake | Town of Munster (11-05-0942P) | September 9, 2011; September 16, 2011; The Northwest Indiana Times | Mr. Thomas DeGiulio, Town of Munster Manager, 1005 Ridge Road, Munster, IN 46321 | August 26, 2011 | 180139
Massachusetts: Plymouth | Town of Hingham (11-01-0786P) | September 22, 2011; September 29, 2011; The Hingham Journal | Mr. John A. Riley, Town of Hingham Board of Selectmen, Town Hall, 210 Central Street, Hingham, MA 02043 | September 7, 2011 | 250268
Maine:
Cumberland | City of Portland (11-01-1058P) | October 11, 2011; October 18, 2011; The Portland Press Herald | The Honorable Nicholas Mavodones, Jr., Mayor, City of Portland, 389 Congress Street, Portland, ME 04101 | September 27, 2011 | 230051
York | Town of Kittery (10-01-2103P) | September 27, 2011; October 4, 2011; The Portsmouth Herald | Mr. Jonathan Carter, Town of Kittery Manager, 200 Rogers Road Extension, Kittery, ME 03904 | December 26, 2011 | 230171
New Mexico: Bernalillo | City of Albuquerque (11-06-0465P) | October 4, 2011; October 11, 2011; The Albuquerque Journal | The Honorable Richard J. Berry, Mayor, City of Albuquerque, 1 Civic Place, Albuquerque, NM 87102 | September 27, 2011 | 350002
Ohio:
Franklin | Unincorporated areas of Franklin County (11-05-2052P) | September 7, 2011; September 14, 2011; The Daily Reporter | The Honorable Marilyn Brown, President, Franklin County Board of Commissioners, 373 South High Street, 26th Floor, Columbus, OH 43215 | January 12, 2012 | 390167
Franklin | City of Grove City (11-05-2052P) | September 7, 2011; September 14, 2011; The Daily Reporter | The Honorable Richard L. Stage, Mayor, City of Grove City, 4035 Broadway, Grove City, OH 43123 | January 12, 2012 | 390173
Trumbull | Unincorporated areas of Trumbull County (11-05-6118P) | August 11, 2011; August 18, 2011; The Tribune Chronicle | The Honorable Daniel E. Polivka, President, Trumbull County Commissioners, 160 High Street Northwest, Warren, OH 44481 | July 29, 2011 | 390535
Trumbull | Village of Lordstown (11-05-6118P) | August 11, 2011; August 18, 2011; The Tribune Chronicle | The Honorable Michael Chaffee, Mayor, Village of Lordstown, 1455 Salt Springs Road, Lordstown, OH 44481 | July 29, 2011 | 390812
Pennsylvania:
Adams | Township of Franklin (11-03-0400P) | July 19, 2011; July 26, 2011; The Gettysburg Times | The Honorable Daniel Fetter, Chairman, Township of Franklin Board of Supervisors, 55 Scott School Road, Cashtown, PA 17310 | November 23, 2011 | 421250
Chester | Town of Caln (11-03-0270P) | August 26, 2011; September 2, 2011; The Daily Local News | The Honorable William Chambers, President, Township of Caln, 253 Municipal Drive, Thorndale, PA 19372 | January 3, 2012 | 422247
Delaware | Township of Haverford (11-03-1170P) | August 3, 2011; August 10, 2011; The Daily Times | The Honorable William F. Wechsler, President, Township of Haverford Board of Commissioners, 2325 Darby Road, Havertown, PA 19083 | December 8, 2011 | 420417
Montgomery | Township of Lower Merion (10-03-0696P) | September 15, 2011; September 22, 2011; The Main Line Times | The Honorable Elizabeth S. Rogan, President, Township of Lower Merion Board of Commissioners, 75 East Lancaster Avenue, Ardmore, PA 19003 | December 30, 2010 | 420701
Puerto Rico: Puerto Rico | Commonwealth of Puerto Rico (10-02-1774P) | August 9, 2011; August 16, 2011; El Nuevo Dia | The Honorable Luis G. Fortuño, Governor, Commonwealth of Puerto Rico, Calle Fortaleza #63, San Juan, PR 00901 | August 2, 2011 | 720000
Texas:
Bell | City of Temple (10-06-3631P) | September 27, 2011; October 4, 2011; The Temple Daily Telegram | The Honorable William A. Jones, III, Mayor, City of Temple, 2 North Main Street, Temple, TX 76501 | February 1, 2012 | 480034
Bexar | City of San Antonio (11-06-1217P) | September 27, 2011; October 4, 2011; The San Antonio Express-News | The Honorable Julián Castro, Mayor, City of San Antonio, 100 Military Plaza, San Antonio, TX 78205 | September 20, 2011 | 480045
Bexar | City of San Antonio (11-06-1853P) | October 6, 2011; October 13, 2011; The San Antonio Express-News | The Honorable Julián Castro, Mayor, City of San Antonio, 100 Military Plaza, San Antonio, TX 78205 | February 10, 2012 | 480045
Collin | City of McKinney (11-06-0938P) | October 5, 2011; October 12, 2011; The McKinney Courier-Gazette | The Honorable Brian Loughmiller, Mayor, City of McKinney, 222 North Tennessee Street, McKinney, TX 75069 | February 9, 2012 | 480135
Collin | City of Richardson (11-06-2276P) | October 4, 2011; October 11, 2011; The Dallas Morning News | The Honorable Bob Townsend, Mayor, City of Richardson, 411 West Arapaho Road, Richardson, TX 75080 | February 8, 2012 | 480184
Johnson and Tarrant | City of Burleson (11-06-2791P) | October 12, 2011; October 19, 2011; The Burleson Star | The Honorable Ken Shetter, Mayor, City of Burleson, 141 West Renfro Street, Burleson, TX 76028 | February 16, 2012 | 485459
Medina | City of Castroville (11-06-0606P) | October 6, 2011; October 13, 2011; The Castroville News Bulletin | The Honorable Robert Lee, Mayor, City of Castroville, 1209 Fiorella Street, Castroville, TX 78009 | October 28, 2011 | 480932
Montgomery | City of Montgomery (10-06-1397P) | October 4, 2011; October 11, 2011; The Conroe Courier | The Honorable John Fox, Mayor, City of Montgomery, 101 Old Plantersville Road, Montgomery, TX 77356 | October 27, 2011 | 481483
Tarrant | City of Arlington (10-06-3532P) | September 2, 2011; September 9, 2011; The Fort Worth Star-Telegram | The Honorable Dr. Robert N. Cluck, Mayor, City of Arlington, 101 West Abram Street, Arlington, TX 76010 | January 9, 2012 | 485454
Tarrant | City of Arlington (10-06-3286P) | September 15, 2011; September 22, 2011; The Fort Worth Star-Telegram | The Honorable Dr. Robert N. Cluck, Mayor, City of Arlington, 101 West Abram Street, Arlington, TX 76010 | January 20, 2012 | 485454
Tarrant | City of Dalworthington Gardens (10-06-3532P) | September 2, 2011; September 9, 2011; The Fort Worth Star-Telegram | The Honorable Michael R. Tedder, Mayor, City of Dalworthington Gardens, 2600 Roosevelt Drive, Dalworthington Gardens, TX 76016 | January 9, 2012 | 481013
Tarrant | City of Fort Worth (11-06-2791P) | October 12, 2011; October 19, 2011; The Fort Worth Star-Telegram | The Honorable Betsy Price, Mayor, City of Fort Worth, 1000 Throckmorton Street, Fort Worth, TX 76102 | February 16, 2012 | 480596
Tarrant | City of White Settlement (11-06-1375P) | September 28, 2011; October 5, 2011; The Grizzly Detail Newspaper | The Honorable Jerry R. Burns, Mayor, City of White Settlement, 214 Meadow Park Drive, White Settlement, TX 76108 | September 21, 2011 | 480617
Virginia:
Fauquier | Unincorporated areas of Fauquier County (11-03-0275P) | July 27, 2011; August 3, 2011; The Fauquier Times-Democrat | The Honorable Raymond E. Graham, Chairman, Fauquier County Board of Supervisors, 10 Hotel Street, Suite 208, Warrenton, VA 20186 | December 1, 2011 | 510055
Loudoun | Unincorporated areas of Loudoun County (10-03-0387P) | October 27, 2010; November 3, 2010; The Loudoun Times-Mirror | The Honorable Scott K. York, Chairman at Large, Loudoun County Board of Supervisors, 1 Harrison Street Southeast, 5th Floor, Leesburg, VA 20177 | October 19, 2010 | 510090
Prince William | Unincorporated areas of Prince William County (11-03-0494P) | September 14, 2011; September 21, 2011; The News & Messenger | The Honorable Corey A. Stewart, Chairman at Large, Prince William County Board of Supervisors, 1 County Complex Court, Prince William, VA 22192 | January 19, 2012 | 510119
Wisconsin: Brown | Unincorporated areas of Brown County (11-05-2704P) | September 15, 2011; September 22, 2011; The Greenbay Press-Gazette | The Honorable Guy Zima, Chairman, Brown County Board, 305 East Walnut Street, Green Bay, WI 54301 | January 20, 2012 | 550020

(Catalog of Federal Domestic Assistance No. 97.022, “Flood Insurance.”)

Dated: December 5, 2011.
Sandra K. Knight,
Deputy Associate Administrator for Mitigation, Department of Homeland Security, Federal Emergency Management Agency.

[FR Doc. 2011-32596 Filed 12-20-11; 8:45 am]

BILLING CODE 9110-12-P